DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on April 22, 2013 (Federal Register/Vol. 78, No. 77/pp. 23824-23825).

DATES: Submit comments to the Office of Management and Budget (OMB) on or before October 7, 2013.

FOR FURTHER INFORMATION CONTACT: Dr. Kathy Sifrit at the National Highway Traffic Safety Administration, Office of Behavioral Safety Research (NTI-132), W46-472, Department of Transportation, 1200 New Jersey Avenue SE., Washington, DC 20590. Dr. Sifrit's phone number is 202-366-0868 and her email address is kathy.sifrit@dot.gov.

SUPPLEMENTARY INFORMATION: OMB Control Number: 2127-New.

Title: Older Driver Compliance with Licensing Restrictions.

Form No.: NHTSA Form 1186.

Type of Review: Regular.

Respondents: Drivers age 70 and older who have responded to a solicitation for participation in a study of licensing restrictions and provided a phone number for contact.

Estimated Number of Respondents: A maximum of 240 respondents to a solicitation who have provided a phone number to call.

Estimated Time Per Response: The average amount of time to respond to the questions is estimated at 10 minutes for each telephone conversation with a respondent.

Total Estimated Annual Burden Hours: 40 hours.

Frequency of Collection: The questions will be presented a single time.

Abstract

Some States impose restrictions on drivers who have impairments that may affect safety, for example, limiting a driver whose vision is declining to daytime driving only. However, it is unclear whether drivers comply with those restrictions. This study will explore this issue by documenting driving habits of drivers with restrictions imposed by the licensing authority, drivers with restrictions recommended by a driving rehabilitation specialist but without State-imposed restrictions, and a control group of unrestricted drivers of similar age. The National Highway Traffic Safety Administration (NHTSA) proposes to collect information from older adult licensed drivers about their driver license status and driving habits. Drivers will volunteer for the study by responding to a mailed or individually-delivered solicitation. Researchers will ask drivers seven questions to determine eligibility to participate in the study, then describe the proposed study to respondents who qualify. Each driver who meets study inclusion criteria will then be asked if he or she wishes to participate. If yes, a project assistant will ask for a description of the car in order to identify it and install a data collection system that will collect all remaining data necessary for the study. In sum, the proposed questions will allow research staff to ensure that prospective participants meet study inclusion criteria and facilitate installing data collection instruments in the participants' vehicles. Findings will provide information about the extent to which drivers comply with license restrictions and with certified driving rehabilitation specialist recommendations, and whether such restrictions lead to reduced driving exposure. NHTSA will provide the findings to States for their use in developing restricted licensing practices aimed at reducing injuries and loss of life on the highway.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments are Invited On: whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Issued in Washington, DC on August 30, 2013.
Jeff Michael,
Associate Administrator, Research and Program Development.

[FR Doc. 2013-21552 Filed 9-4-13; 8:45 am]

BILLING CODE P